NATIONAL TRANSPORTATION SAFETY BOARD

Public Availability of FY 2011 Service Contract Inventory Analysis, FY 2012 Service Contract Inventory, and FY 2012 Service Contract Inventory Planned Analysis for the National Transportation Safety Board

AGENCY: National Transportation Safety Board.

ACTION: Notice.

SUMMARY: In accordance with Section 743 of Division C of the Consolidated Appropriations Act of 2010 (Pub. L. 111-117), the National Transportation Safety Board is publishing this notice to advise the public of the availability of the FY 2011 Service Contract Inventory Analysis, the FY 2012 Service Contract Inventory, and the FY 2012 Service Contract Inventory Planned Analysis. The FY 2011 inventory analysis provides information on specific service contract actions that were analyzed as part of the FY 2011 inventory. The FY 2012 inventory provides information on service contract actions over $25,000 that were made in FY 2012. The inventory information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The FY 2012 inventory planned analysis provides information on which functional areas will be reviewed by the agency. The National Transportation Safety Board has posted its FY 2012 inventory, FY 2012 planned analysis, and FY 2011 inventory analysis at the following link: http://www.ntsb.gov/about/open.html.

FOR FURTHER INFORMATION CONTACT: Questions regarding the service contract inventory should be directed to Christopher Blumberg, Deputy Director, Office of Administration, NTSB at 202-314-6102 or christopher.blumbeg@ntsb.gov.

Dated: February 12, 2013.
Candi R. Bing,
Federal Register Liaison Officer.

[FR Doc. 2013-03668 Filed 2-15-13; 8:45 am]

BILLING CODE 7533-01-P